ENVIRONMENTAL PROTECTION AGENCY

[FRL-9955-56-Region 3]

Notice of Administrative Settlement Agreement for Recovery of Past Response Costs Pursuant to Section 122(H) of the Comprehensive Environmental Response, Compensation, and Liability Act of 1980, as Amended

AGENCY: Environmental Protection Agency (EPA).

ACTION: Notice; Request for public comment.

SUMMARY: In accordance with the Comprehensive Environmental Response, Compensation, and Liability Act (“CERCLA”), as amended, notice is hereby given that a proposed administrative settlement agreement for recovery of past response costs (“Proposed Agreement”) associated with Operable Unit Two of the Sharon Steel Corporation (Farrell Works Disposal Area) Superfund Site, Mercer County, Pennsylvania, was executed by the Environmental Protection Agency (“EPA”) and is now subject to public comment, after which EPA may modify or withdraw its consent if comments received disclose facts or considerations that indicate that the Proposed Agreement is inappropriate, improper, or inadequate. The Proposed Agreement would resolve potential EPA claims under Section 107(a) of CERCLA, against Daniel Williams, d/b/a Williams Brothers Trucking (“Settling Party”). The Proposed Agreement would require Settling Party to reimburse EPA $12,000.00 for past response costs incurred by EPA for the Site.

For 30 days following the date of publication of this notice, EPA will receive written comments relating to the Proposed Agreement. EPA's response to any comments received will be available for public inspection at the U.S. Environmental Protection Agency, Region III, 1650 Arch Street, Philadelphia, PA 19103.

DATES: Comments must be submitted no later than thirty (30) days after the date of publication of this notice.

ADDRESSES: The Proposed Agreement and additional background information relating to it are available for public inspection at the U.S. Environmental Protection Agency, Region III, 1650 Arch Street, Philadelphia, PA 19103. A copy of the Proposed Agreement may be obtained from Robert S. Hasson (3RC41), Senior Assistant Regional Counsel, U.S. Environmental Protection Agency, 1650 Arch Street, Philadelphia, PA 19103. Comments should reference the “Sharon Steel Corporation (Farrell Works Disposal Area) Superfund Site, Proposed Administrative Settlement Agreement for Recovery of Past Response Costs” and “EPA Docket No. CERC-03-2017-0057CR,” and should be forwarded to Robert S. Hasson at the above address.

FOR FURTHER INFORMATION CONTACT: Robert S. Hasson (3RC41), U.S. Environmental Protection Agency, 1650 Arch Street, Philadelphia, PA 19103, Phone: (215) 814-2672; hasson.robert@epa.gov.

Dated: November 15, 2016.
Karen Melvin,
Director, Hazardous Site Cleanup Division, U.S. Environmental Protection Agency, Region III.

[FR Doc. 2016-28262 Filed 11-22-16; 8:45 am]

BILLING CODE 6560-50-P